FEDERAL MARITIME COMMISSION

Notice of Agreement Filed

The Commission hereby gives notice of the filing of the following agreements under the Shipping Act of 1984. Interested parties may submit comments on the agreement to the Secretary, Federal Maritime Commission, Washington, DC 20573, within twelve days of the date this notice appears in the Federal Register. A copy of the agreement is available through the Commission's Web site (www.fmc.gov) or by contacting the Office of Agreements at (202)-523-5793 or tradeanalysis@fmc.gov.

Agreement No.: 012395.

Title: MSC/ACL Trans-Atlantic Space Charter Agreement.

Parties: Atlantic Container Line A.B. and MSC Mediterranean Shipping Company S.A.

Filing Party: Wayne R. Rohde, Esq.; Cozen O'Connor LLP; 1200 Nineteenth St. NW., Washington, DC 20036.

Synopsis: The Agreement authorizes MSC to charter space to ACL in the trade between North Europe and New York/New Jersey.

Agreement No.: 012396.

Title: CMA CGM/ELJSA Slot Exchange Agreement Asia—U.S. West Coast.

Parties: CMA CGM S.A. and Evergreen Line Joint Service Agreement.

Filing Party: Paul M. Keane, Esq.; Cichanowicz, Callan, Keane & DeMay, LLP; 50 Main Street, Suite 1045, White Plains, NY 10606.

Synopsis: The Agreement authorizes the parties to exchange slots in the trade between the U.S. West Coast on the one hand, and Taiwan and China on the other hand.

By Order of the Federal Maritime Commission.
Dated: March 18, 2016.
Rachel E. Dickon,
Assistant Secretary.

[FR Doc. 2016-06577 Filed 3-23-16; 8:45 am]

BILLING CODE P